DEPARTMENT OF AGRICULTURE

Cooperative State Research, Education, and Extension Service

Food and Agricultural Sciences National Needs Graduate Fellowship Grants Program for Fiscal Year 2000; Request for Proposals and Request for Input

AGENCY: Cooperative State Research, Education, and Extension Service, USDA.

ACTION: Notice of request for proposals and request for input.

SUMMARY: The Cooperative State Research, Education, and Extension Service (CSREES) is giving notice that a competition for new graduate fellowship grants will not be held during Fiscal Year (FY) 2000. CSREES is also announcing the availability of supplemental grants for Special International Study or Thesis/Dissertation Research Travel Allowances for FY 2000. Applications for supplemental grants are invited from recipients of currently active Food and Agricultural Sciences National Needs Graduate Fellowship Grants to support special international study or thesis/dissertation research experiences for current Fellows. CSREES also is soliciting comments regarding this request for proposals from any interested party. These comments will be considered in the development of the next request for proposals for this program. Such comments will be forwarded to the Secretary or his designee for use in meeting the requirements of section 103(c)(2) of the Agricultural Research, Extension, and Education Reform Act of 1998, 7 U.S.C. 7613(c)(2).

DATES: Supplemental Grant proposals must be received by January 12, 2001. User comments are requested within six months from the issuance of the request for proposals. Comments received after that date will be considered to the extent practicable (see Section G.).

ADDRESSES: Hand-delivered proposals (brought in person by the applicant or through a courier service) must be received on or before January 12, 2001, at the following address: Graduate Fellowship (International) Supplemental Grants Program; c/o Proposal Services Unit; Office of Extramural Programs; Cooperative State Research, Education, and Extension Service; U.S. Department of Agriculture; Room 303, Aerospace Center; 901 D Street, SW.; Washington, DC 20024. The telephone number is (202) 401-5048. Proposals transmitted via a facsimile (fax) machine will not be accepted.

Proposals submitted through the U.S. mail must be received on or before January 12, 2001. Proposals submitted through the U.S. mail should be sent to the following address: Graduate Fellowship (International) Supplemental Grants Program; c/o Proposal Services Unit; Office of Extramural Programs; Cooperative State Research, Education, and Extension Service; U.S. Department of Agriculture; STOP 2245; 1400 Independence Avenue, SW; Washington, DC 20250-2245.

Written user comments should be submitted by first-class mail to: Policy and Program Liaison Staff; Office of Extramural Programs; USDA-CSREES; STOP 2299; 1400 Independence Avenue, SW; Washington, DC 20250-2299; or via e-mail to: RFP-OEP@reeusda.gov. (This address is only for user comments and not for requesting forms or information.) In your comments, please include the name of the program and the fiscal year of the request for proposals to which you are responding.

FOR FURTHER INFORMATION CONTACT: Dr. Howard Sandberg, Higher Education Programs; Cooperative State Research, Education, and Extension Service; U.S. Department of Agriculture, STOP 2251, 1400 Independence Avenue, SW; Washington, DC 20250-2251; Telephone: (202) 720-2193; E-mail: hsandberg@reeusda.gov.

SUPPLEMENTARY INFORMATION:

Table of Contents

A. Administrative Provisions and Legislative Authority

B. Program Description

C. Selection Process and Evaluation Criteria

D. How to Obtain Application Materials

E. What to Submit

F. Catalog of Federal Domestic Assistance

G. Stakeholder Input

A. Administrative Provisions and Legislative Authority

This Program is subject to the provisions found at 7 CFR part 3402. 7 CFR 3402.5(e) sets forth procedures to be followed when submitting supplemental grant proposals for special international study or thesis/dissertation research travel allowances, rules governing the evaluation of proposals and the awarding of such grants, and regulations relating to the post-award administration of grant projects.

Legislative authority for this program is contained in section 1417(b)(6) of the National Agricultural Research, Extension, and Teaching Policy Act of 1977, as amended (NARETPA) (7 U.S.C. 3152(b)(6)).

B. Program Description

CSREES has determined that a new competition for special international study or thesis/dissertation research travel allowances will be held during FY 2000, and hereby solicits proposals for competitive supplemental grants. Proposals may be submitted by universities or colleges who currently have active Food and Agricultural Sciences National Needs Graduate Fellowship Grants. Eligibility for this opportunity is limited to any current Fellow with sufficient time to complete the international experience before the termination date of the fellowship grant under which he/she is supported. These supplementary grants provide support for a Fellow to conduct thesis/dissertation research or to undertake studies at a site outside of the United States primarily for the pursuit of activities that are not generally available within the United States. Before the international study or thesis/dissertation research travel may commence, a Fellow must have completed one academic year of full-time study, as defined by the institution, under the fellowship appointment and arrangements must have been formalized for the Fellow to study and/or conduct research in the foreign location(s).

Estimated funds for supplemental grants in FY 2000 are approximately $60,000. These funds are obtained from no-year funds drawn from expired fellowship grants with unspent funds remaining. CSREES has determined that no FY 2000 appropriations will be targeted to supplemental grants supporting special international study or thesis/dissertation research travel allowances. For each travel allowance, the institution may request up to $5,000. Travel allowance monies may be used only to pay travel and living expenses for the Fellow while the Fellow is on the specific international assignment as proposed in the application for the special international study or thesis/dissertation research travel allowance. No limitation is placed on the number of applications an institution may submit. Awards will be made to the extent possible based on the review of the proposal and availability of funds.

C. Selection Process and Evaluation Criteria

Applications for the special international travel allowances will be evaluated as they are received until available funds for the supplemental grants are exhausted. Upon receipt of an application, CSREES staff will first determine the eligibility of the Fellow for whom the application was submitted for an international travel experience. Eligible and complete requests then will be reviewed by professional staff from USDA or other Federal agencies, as appropriate. Since awards for supplemental grants will be awarded as reviews are completed, there is no assurance funds will be available late in the application period for every acceptable proposal.

The six evaluation criteria are:

1. Destination and duration—the degree to which the destination and duration of the travel experience is appropriate for enhancing the Fellow's academic program—10 points.

2. Travel experience activities—the degree to which the specific international experiences contribute to the Fellow's program of study—30 points.

3. Advance preparations—the degree to which the proposed study or research activities are well-planned, including the likelihood that these activities will come to fruition and that the participation of identified personnel will materialize—20 points.

4. Budget—the degree to which the budget for the international experience is justified—10 points.

5. Personnel—the degree to which the personnel, both U.S. and international, involved with the travel experience have the appropriate credentials and experience to direct the Fellow's international experience, and the likelihood that their participation as mentors, trainers, advisors, or teachers will contribute to the educational value of the travel experiences—20 points.

6. Supporting documentation—the degree to which letters from the dean of the college (or equivalent administrative unit) and the fellowship grant project director support the application—10 points.

D. How To Obtain Application Materials

An Application Kit containing program application materials will be made available to eligible institutions upon request. These materials include the Administrative Provisions, Request for Proposals, Program Announcement, forms, instructions, and other relevant information needed to prepare and submit grant applications. Copies of the Application Kit may be requested from the Proposal Services Unit; Office of Extramural Programs; Cooperative State Research, Education, and Extension Service; U.S. Department of Agriculture; STOP 2245; 1400 Independence Avenue, SW; Washington, DC 20250-2245. The telephone number is (202) 401-5048. When contacting the Proposal Services Unit, please indicate that you are requesting the Application Kit for the FY 2000 Graduate Fellowship (International) Supplemental Grants Program.

Application materials may also be requested via Internet by sending a message with your name, mailing address (not e-mail) and telephone number to psb@reeusda.gov that states that you wish to receive a copy of the application materials for the FY 2000 Graduate Fellowship (International) Supplemental Grants Program. The materials will then be mailed to you (not e-mailed) as quickly as possible.

E. What To Submit

An original plus six copies of each application must be submitted. Proposals should contain all requested information when submitted. Each proposal should be typed on 8½″ x 11″ white paper, double-spaced, and on one side of the page only. Please note that the text of the proposal should be prepared using a font no smaller than 12 point and one-inch margins. Each copy of the application should be stapled securely in the upper left-hand corner (DO NOT BIND). All copies of the application must be submitted in one package. Applications transmitted via a facsimile (FAX) machine will not be accepted.

A separate application must be submitted by a fellowship grant project director at an eligible institution on behalf of each Fellow for which a special international study or thesis/dissertation research travel allowance is requested.

Each application must include an “Application for Funding,” Form CSREES-661, and a “Budget,” Form CSREES-55. To provide the office of Higher Education Programs (HEP) with sufficient information upon which to evaluate the merits of the requests for a special international study or thesis/dissertation research travel allowance, each application for a supplemental grant must contain a narrative which provides the following: (1) The specific destination(s) and duration of the travel; (2) the specific study or thesis/dissertation research activities in which the Fellow will be engaged; (3) how the international experience will contribute to the Fellow's program of study; (4) a budget narrative specifying and justifying the dollar amount requested for the travel; (5) summary credentials of both the U.S. and international faculty or other professionals with whom the Fellow will be working during the international experience (summary credentials must not exceed three pages per person; “Summary Vita—Teaching Proposal,” Form CSREES-708, may be used for this purpose); (6) a letter from the dean of the Fellow's college or equivalent administrative unit supporting the Fellow's travel request and certifying that the travel experience will not jeopardize the Fellow's satisfactory progress toward degree completion; and (7) a letter from the fellowship grant project director certifying the Fellow's eligibility, the accuracy of the Fellow's travel request, and the relevance of the travel to the Fellow's advanced degree objectives.

The narrative portion of the application must not exceed 10 pages, excluding the summary vita/vitae.

F. Catalog of Federal Domestic Assistance

This program is listed in the Catalog of Federal Domestic Assistance under No. 10.210.

G. Stakeholder Input

CSREES is soliciting comments regarding this solicitation of applications from any interested party. These comments will be considered in the development of the next request for proposals for the program. Such comments will be forwarded to the Secretary or his designee for use in meeting the requirements of section 103(c)(2) of the Agricultural Research, Extension, and Education Reform Act of 1998 (Pub. L. 105-185). Comments should be submitted as provided for in the ADDRESSES and DATES portions of this Notice.

Done at Washington, DC, this 28th day of January, 2000.
Charles W. Laughlin,
Administrator, Cooperative State Research, Education, and Extension Service.

[FR Doc. 00-2823 Filed 2-7-00; 8:45 am]

BILLING CODE 3410-22-P